DEPARTMENT OF LABOR

Employment and Training Administration

Solicitation for Grant Applications (SGA); National Farmworker Jobs Program; Housing assistance for Migrants and Seasonal Farmworkers

AGENCY: Employment and Training Administration (ETA), Labor.

ACTION: Notice: amendment to SGA/DFA-03-108.

SUMMARY: The Employment and Training Administration published a document in the Federal Register dated April 17, 2003, concerning the availability of grant funds for the National Farmworker Jobs Program (NFJP) and Housing for Migrant and Seasonal Farmworkers (MSFWs). The document is being amended to provide clarifications as follows:

• A completed SF 424 along with a Program Planning Summary (ETA 9094/Attachment I) and a Budget Information Summary (ETA 9093/Attachment II) should be included in all National Farmworker Jobs Program applications. Please note that completing the ETA 9094 will not satisfy the requirement to provide estimated numbers for those proposed to receive training services and to receive related assistance services.

• For the purposes of the Farmworker Housing Assistance SGA, applicants should submit the SF 424 and SF 424A.

Dated: Signed at Washington, DC, this 6th day of May, 2003.
Lorraine H. Saunders,
Grant Officer, Employment and Training Administration.

BILLING CODE 4510-30-M

[FR Doc. 03-11678 Filed 5-9-03; 8:45 am]

BILLING CODE 4510-30-C